DEPARTMENT OF ENERGY

Federal Energy Regulatory Commission

Combined Notice of Filings # 1

Take notice that the Commission received the following exempt wholesale generator filings:

Docket Numbers: EG11-57-000.

Applicants: Rinehart Solar Farm LLC.

Description: Self-Certification of EG or FC of Blue Chip Energy, LLC.

Filed Date: 02/10/2011.

Accession Number: 20110210-5145.

Comment Date: 5 p.m. Eastern Time on Thursday, March 03, 2011.

Docket Numbers: EG11-58-000.

Applicants: Sorrento Solar Farm LLC.

Description: Self-Certification of EG of Blue Chip Energy, LLC.

Filed Date: 02/10/2011.

Accession Number: 20110210-5144.

Comment Date: 5 p.m. Eastern Time on Thursday, March 03, 2011.

Take notice that the Commission received the following electric rate filings:

Docket Numbers: ER03-721-015.

Applicants: New Harquahala Generating Company, LLC.

Description: Supplemental Information of New Harquahala Generating Company, LLC.

Filed Date: 01/27/2011.

Accession Number: 20110127-5190.

Comment Date: 5 p.m. Eastern Time on Thursday, February 17, 2011.

Docket Numbers: ER07-1195-001.

Applicants: Mittal Steel USA, Inc.

Description: Notice of Non-Material Changes in Status Form of ArcelorMittal USA LLC.

Filed Date: 02/09/2011.

Accession Number: 20110209-5209.

Comment Date: 5 p.m. Eastern Time on Wednesday, March 02, 2011.

Docket Numbers: ER10-1924-001.

Applicants: Wisconsin Public Service Corporation.

Description: Wisconsin Public Service Corporation submits tariff filing per 35: Notification of Effective Date of WPSC and Marshfield's 2010 Agreement to be effective 2/1/2011.

Filed Date: 02/10/2011.

Accession Number: 20110210-5091.

Comment Date: 5 p.m. Eastern Time on Thursday, March 03, 2011.

Docket Numbers: ER10-2006-001.

Applicants: Hawkeye Power Partners, LLC.

Description: Hawkeye Power Partners, LLC submits tariff filing per 35: Hawkeye Compliance Filing to be effective 7/28/2010.

Filed Date: 02/10/2011.

Accession Number: 20110210-5000.

Comment Date: 5 p.m. Eastern Time on Thursday, March 03, 2011.

Docket Numbers: ER10-3214-002.

Applicants: PH Glatfelter Company.

Description: PH Glatfelter Company submits tariff filing per 35: P.H. Glatfelter Company Filing to be effective 2/8/2011.

Filed Date: 02/09/2011.

Accession Number: 20110209-5170.

Comment Date: 5 p.m. Eastern Time on Wednesday, March 02, 2011.

Docket Numbers: ER11-2598-002.

Applicants: Gateway Energy Services Corporation.

Description: Gateway Energy Services Corporation submits tariff filing per 35: Supplement to Tariff Revision Regarding Seller Category to be effective 3/4/2011.

Filed Date: 02/10/2011.

Accession Number: 20110210-5139.

Comment Date: 5 p.m. Eastern Time on Thursday, March 03, 2011.

Docket Numbers: ER11-2612-002.

Applicants: MXenergy Electric Inc.

Description: MXenergy Electric Inc. submits tariff filing per 35.17(b): MXenergy Substitute First Revised MBR Tariff to be effective 3/4/2011.

Filed Date: 02/10/2011.

Accession Number: 20110210-5090.

Comment Date: 5 p.m. Eastern Time on Thursday, March 03, 2011.

Docket Numbers: ER11-2730-001.

Applicants: Energy Exchange International, LLC.

Description: Energy Exchange International, LLC submits tariff filing per 35.17(b): Energy Exchange International, LLC Electric Tariff Original Volune No 1, to be effective 3/1/2011.

Filed Date: 02/10/2011.

Accession Number: 20110210-5001.

Comment Date: 5 p.m. Eastern Time on Thursday, March 03, 2011.

Docket Numbers: ER11-2866-000.

Applicants: Cleco Power LLC.

Description: Cleco Power LLC submits tariff filing per 35.13(a)(2)(iii): RS36 Cleco Power/Entergy JOA to be effective 3/31/2011.

Filed Date: 02/10/2011.

Accession Number: 20110210-5034.

Comment Date: 5 p.m. Eastern Time on Thursday, March 03, 2011.

Docket Numbers: ER11-2867-000.

Applicants: Cleco Power LLC.

Description: Cleco Power LLC submits tariff filing per 35.13(a)(2)(iii): Correction for RS10 to be effective 12/31/2011.

Filed Date: 02/10/2011.

Accession Number: 20110210-5062.

Comment Date: 5 p.m. Eastern Time on Thursday, March 03, 2011.

Docket Numbers: ER11-2868-000.

Applicants: PJM Interconnection, L.L.C.

Description: PJM Interconnection, L.L.C. submits tariff filing per 35.13(a)(2)(iii): WMPA No. 2721, Queue No. V4-070, Flemington Solar, LLC and JCP&L to be effective 1/13/2011.

Filed Date: 02/10/2011.

Accession Number: 20110210-5101.

Comment Date: 5 p.m. Eastern Time on Thursday, March 03, 2011.

Docket Numbers: ER11-2869-000.

Applicants: PJM Interconnection, L.L.C.

Description: PJM Interconnection, L.L.C. submits tariff filing per 35.13(a)(2)(iii): ISA 2775, Queue No. V4-019, PSEG Fossil, L.L.C. and PSE&G to be effective 1/11/2011.

Filed Date: 02/10/2011.

Accession Number: 20110210-5102.

Comment Date: 5 p.m. Eastern Time on Thursday, March 03, 2011.

Docket Numbers: ER11-2870-000.

Applicants: Allegheny Energy Supply Company, LLC.

Description: Allegheny Energy Supply Company, LLC submits tariff filing per 35: Allegheny Energy Supply ER11-2203 Compliance Filing to be effective 1/1/2011.

Filed Date: 02/10/2011.

Accession Number: 20110210-5130.

Comment Date: 5 p.m. Eastern Time on Thursday, March 03, 2011.

Docket Numbers: ER11-2871-000.

Applicants: Southern California Edison Company.

Description: Southern California Edison Company submits tariff filing per 35.15: Notice of Cancellation of Letter Agreement for the Manzana Wind Project SA 87 to be effective 1/10/2011.

Filed Date: 02/10/2011.

Accession Number: 20110210-5141.

Comment Date: 5 p.m. Eastern Time on Thursday, March 03, 2011.

Take notice that the Commission received the following electric securities filings:

Docket Numbers: ES11-15-000.

Applicants: Michigan Electric Transmission Co., LLC.

Description: Updated Exhibits of Michigan Electric Transmission Company, LLC.

Filed Date: 02/09/2011.

Accession Number: 20110209-5207.

Comment Date: 5 p.m. Eastern Time on Friday, February 18, 2011.

Docket Numbers: ES11-16-000.

Applicants: International Transmission Company.

Description: International Transmission Company Updated Exhibits to Application.

Filed Date: 02/09/2011.

Accession Number: 20110209-5206.

Comment Date: 5 p.m. Eastern Time on Friday, February 18, 2011.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Dated: February 10, 2011.
Nathaniel J. Davis, Sr.,
Deputy Secretary.

[FR Doc. 2011-3577 Filed 2-16-11; 8:45 am]

BILLING CODE 6717-01-P